DEPARTMENT OF DEFENSE

Office of the Secretary

Submission for OMB Review; Comment Request

ACTION: Notice.

The Department of Defense has submitted to OMB for clearance, the following proposal for collection of information under the provisions of the Paperwork Reduction Act (44 U.S.C. Chapter 35).

DATES: Consideration will be given to all comments received by May 22, 2003.

Title and OMB Number: Office of Priority Telecommunications Customer Satisfaction Survey; OMB Number 0704-[To Be Determined].

Type of Request: New Collection.

Number of Respondents: 100.

Responses per Respondent: 1.

Annual Response: 100.

Average Burden Per Response: 15 minutes.

Average Burden Hours: 25.

Needs and Uses: The National Communications Service (NCS), Office of Priority Telecommunications, is proposing to conduct surveys to better understand customer expectations and preferences regarding the NCS Telecommunications Service Priority (TSP) program. An electronic survey will be used in the data collection. Two subsets of customers will be surveyed, vendors and users. Vendors represent telecommunications organization that provide TSP services. Users represent organizations that support either a national security or emergency preparedness mission, including Federal users and non-Federal users, such as State and local governments, foreign governments, and private industry.

Affected Public: Business or other for-profit; Federal Government.

Frequency: Annually.

Respondent's Obligation: Voluntary.

OMB Desk Officer: Ms. Jacqueline Zeiher.

Written comments and recommendations on the proposed information collection should be sent to Ms. Zeiher at the Office of Management and Budget, Desk Officer for DoD, Room 10236, New Executive Office Building, Washington, DC 20503.

DoD Clearance Officer: Mr. Robert Cushing.

Written requests for copies of the information collection proposal should be sent to Mr. Cushing, WHS/DIOR, 1215 Jefferson Davis Highway, Suite 1204, Arlington, VA 22202-4302.

Dated: April 15, 2003.
Patricia L. Toppings,
Alternate OSD Federal Register Liaison Officer, Department of Defense.

[FR Doc. 03-9836 Filed 4-21-03; 8:45 am]

BILLING CODE 5001-08-M